DEPARTMENT OF THE TREASURY

Internal Revenue Service

26 CFR Part 1

[TD 9264]

RIN 1545-BG49

Guidance Necessary To Facilitate Business Electronic Filing and Burden Reduction; Correction

AGENCY: Internal Revenue Service (IRS), Treasury.

ACTION: Correction notice.

SUMMARY: This document contains a correction to final and temporary regulations (TD 9264) that were published in the Federal Register on Tuesday, May 30, 2006 (71 FR 30591) affecting taxpayers that file Federal income tax returns. They simplify, clarify, or eliminate reporting burdens and also eliminate regulatory impediments to the electronic filing of certain statements that taxpayers are required to include on or with their Federal income tax returns.

DATES: The correction is effective May 30, 2006.

FOR FURTHER INFORMATION CONTACT: Grid Glyer, (202) 622-7930 (not a toll-free number).

SUPPLEMENTARY INFORMATION:

Background

The final and temporary regulations that are the subject of the correction are under sections 279, 302, 331, 332, 338, 351, 355, 368, 381, 382, 1081, 1221, 1502, 1563, and 6012 of the Internal Revenue Code.

Need for Correction

As published, final and temporary regulations (TD 9264) contain an error that may prove to be misleading and is in need of clarification.

Correction of Publication

Accordingly, the publication of the final and temporary regulations (TD 9264), which were the subject of FR Doc. 06-4873, is corrected as follows:

On page 30591, in the document heading, the language “RIN 1545-BF26” is corrected to read “RIN 1545-BG49”.

LaNita Van Dyke,
Chief, Publications and Regulations Branch, Legal Processing Division, Associate Chief Counsel, (Procedure and Administration).

[FR Doc. E7-4962 Filed 3-19-07; 8:45 am]

BILLING CODE 4830-01-P